NATIONAL SCIENCE FOUNDATION

National Science Board; NSB Election Committee; Sunshine Act Meeting

Date and Time: January 13, 2006, 11 a.m.-11:45 a.m. (ET).

Place: National Science Foundation, Room 1235, 4201 Wilson Boulevard, Arlington, VA 22230.

Status: This meeting will be closed to the public.

Agenda: Discussion of candidates for one vacancy on the Executive Committee.

FOR FURTHER INFORMATION CONTACT: Dr. Michael P. Crosby, Executive Officer and NSB Office Director, (703) 292-7000. www.nsf.gov/nsb.

Michael P. Crosby,
Executive Officer.

[FR Doc. 06-213 Filed 1-5-06; 2:44 pm]

BILLING CODE 7555-01-P